DEPARTMENT OF HEALTH AND HUMAN SERVICES

Centers for Disease Control and Prevention

Draft Guideline for Environmental Infection Control in Healthcare Facilities, 2001

AGENCY: Centers for Disease Control and Prevention (CDC), Department of Health and Human Services (DHHS).

ACTION: Notice of availability and request for public comment.

SUMMARY: This notice is a request for review of and comment on the “Draft Guideline for Environmental Infection Control in Healthcare Facilities, 2001.” The guideline consists of two parts, references, and appendices. Part I is entitled “Background Information: Environmental Infection Control in Healthcare Facilities,” and Part II is entitled “Recommendations for Environmental Infection Control in Healthcare Facilities.” The document was prepared by the Healthcare Infection Control Practices Advisory Committee (HICPAC), the Division of Healthcare Quality Promotion (formerly Hospital Infections Program), the Division of Bacterial and Mycotic Diseases, and the Division of Parasitic Diseases, National Center for Infectious Diseases (NCID), and the Division of Oral Health, National Center for Chronic Disease Prevention and Health Promotion, CDC.

DATES: Comments on the draft document must be submitted in writing on or before April 20, 2001.

ADDRESSES: Comments on the Draft Guideline for Environmental Infection Control in Healthcare Facilities, 2001 should be submitted to the Resource Center, Attention: EnviroGuide, Division of Healthcare Quality Promotion, CDC, Mailstop E-68, 1600 Clifton Road, NE., Atlanta, Georgia 30333; fax: 404-639-6459; e-mail: envirocomments@cdc.gov; or Internet URL: http://www.cdc.gov/ncidod/hip/enviro/guide.htm.

FOR FURTHER INFORMATION CONTACT: Requests for copies of the Draft Guideline for Environmental Infection Control in Healthcare Facilities, 2001 should be submitted to the Resource Center, Division of Healthcare Quality Promotion, CDC, Mailstop E-68, 1600 Clifton Road, NE., Atlanta, Georgia 30333; fax: 404-639-6459; e-mail: envirorequests@cdc.gov; or Internet URL: http://www.cdc.gov/ncidod/hip/enviro/guide.htm.

SUPPLEMENTARY INFORMATION: This 2-part document updates and replaces portions of the previously published CDC Guideline for Handwashing and Hospital Environmental Control and the Environmental Infection Control portions of the CDC Guideline for Prevention of Nosocomial Pneumonia, 1994. Part I, “Background Information: Environmental Infection Control in Healthcare Facilities,” serves as the background for the consensus recommendations of HICPAC that are contained in Part II, “Recommendations for Environmental Infection Control in Healthcare Facilities.” This guideline also identifies key process management elements to assist facilities in monitoring compliance with the evidence-based Category IA or IB recommendations provided in Part II. These include: (1) Conducting risk assessment prior to construction, renovation, demolition, or major repair projects; (2) conducting ventilation assessments related to construction barrier installation; (3) establishing and maintaining appropriate pressure differentials for special care areas [e.g., operating rooms, airborne infection isolation, protective environments]; (4) evaluating non-tuberculous mycobacteria culture results for possible environmental sources; and (5) implementing infection control procedures to prevent environmental spread of antibiotic-resistant gram-positive cocci and assuring compliance with these procedures.

HICPAC was established in 1991 to provide advice and guidance to the Secretary and the Assistant Secretary for Health, DHHS; the Director, CDC, and the Director, NCID, regarding the practice of infection control and strategies for surveillance, prevention, and control of healthcare-associated infections in U.S. healthcare facilities. The committee advises CDC on guidelines and other policy statements regarding prevention of healthcare-associated infections and related adverse events.

Dated: February 28, 2001.
Joseph R. Carter,
Associate Director for Management and Operations, Centers for Disease Control and Prevention (CDC).

[FR Doc. 01-5376 Filed 3-5-01; 8:45 am]

BILLING CODE 4163-18-P